DEPARTMENT OF HEALTH AND HUMAN SERVICES

Substance Abuse and Mental Health Services Administration

Planned Grant Award to Hawaii County's Office of the Mayor

AGENCY: Center for Substance Abuse Treatment, Substance Abuse and Mental Health Services Administration, HHS.

ACTION: Availability of grant funds to Hawaii County's Office of the Mayor.

SUMMARY: This notice is to inform the public that the Substance Abuse and Mental Health Services Administration's (SAMHSA) Center for Substance Abuse Treatment (CSAT) intends to award approximately $300,000 (total costs) per year for 3 years to Hawaii County's Office of the Mayor. The first year's award will be made in fiscal year 2003 if the application is scored by the initial review group and concurred with by the CSAT National Advisory Council.

Hawaii County's Office of the Mayor has been selected to receive a single source award due to the devastating impact that crystal methamphetamine, also known as “ice,” abuse has had on the youth of Hawaii. The effects of this problem on children on the Island of Hawaii are profound, with some of the highest rates of drug use among youth in the State of Hawaii. According to the 2000 Hawaii Student Alcohol, Tobacco and other Drug Use Study conducted by the Department of Health, Alcohol and Drug Abuse Division, 10.6 percent of Hawaii County high school seniors answered in the affirmative to “frequent drug use—more than 20 times in the past 30 days,” compared to just 5.6 percent statewide. This study reports that the State of Hawaii has the highest use of “ice” by 12th graders in the Nation and that Hawaii County has the highest use of “ice” in the State. Findings further reveal that Hawaii County has one-third more 8th graders and one-third more 10th graders using “ice” than the rest of the State. There are currently no residential or intensive outpatient treatment services available on the Big Island and State resources are able to provide substance abuse treatment to only 1,500 youth. This funding will address the serious health and public safety threat that “ice” has on the Hawaii County youth by supporting the expansion of adolescent methamphetamine abuse treatment services to a full continuum of care.

Authority: The grant award will be made under the authority of section 509 of the Public Health Service Act, as amended. The Catalog of Federal Domestic Assistance number is 93.243.

FOR FURTHER INFORMATION CONTACT: Ms. Cheryl Gallagher, Project Officer, CSAT, SAMHSA, Rockwall II, 7th Floor, 5600 Fishers Lane, Rockville, MD 20857; telephone: (301) 443-7259; e-mail cgallagh@samhsa.gov.

Dated: March 25, 2003.
Richard Kopanda,
Executive Officer, Substance Abuse and Mental Health Services Administration.

[FR Doc. 03-7822 Filed 4-1-03; 8:45 am]

BILLING CODE 4162-20-P